NATIONAL SCIENCE FOUNDATION

Notice of Permit Applications Received Under the Antarctic Conservation Act of 1978

AGENCY: National Science Foundation.

ACTION: Notice of permit applications received.

SUMMARY: The National Science Foundation (NSF) is required to publish a notice of permit applications received to conduct activities regulated under the Antarctic Conservation Act of 1978 (ACA). NSF has published regulations under the Antarctic Conservation Act in the Code of Federal Regulations. This is the required notice of permit applications received.

DATES: Interested parties are invited to submit written data, comments, or views with respect to this permit application by July 25, 2022. This application may be inspected by interested parties at the Permit Office, address below.

ADDRESSES: Comments should be addressed to Permit Office, Office of Polar Programs, National Science Foundation, 2415 Eisenhower Avenue, Alexandria, Virginia 22314 or ACApermits@nsf.gov.

FOR FURTHER INFORMATION CONTACT: Andrew Titmus, ACA Permit Officer, at the above address, 703-292-4479.

SUPPLEMENTARY INFORMATION: The National Science Foundation, as directed by the Antarctic Conservation Act of 1978 (Pub. L. 95-541, 45 CFR 671), as amended by the Antarctic Science, Tourism and Conservation Act of 1996, has developed regulations for the establishment of a permit system for various activities in Antarctica and designation of certain animals and certain geographic areas as requiring special protection. The regulations establish such a permit system to designate Antarctic Specially Protected Areas.

Application Details

Permit Application: 2023-004

1. Applicant: Dr. Steve Emslie, University of North Carolina, Department of Biology and Marine Biology, Wilmington, NC 28403

Activity for Which Permit is Requested: Take, Harmful Interference, Enter Antarctic Specially Protected Area (ASPA), Import into USA, Export from USA. The applicant seeks an Antarctic Conservation Act permit authorizing take and harmful interference associated with research examining ecological responses in diet and foraging behavior of the Adelie penguin (Pygoscelis adeliae) in Antarctica. The applicant proposes to collect up to 150 ancient and modern penguin tissues per year at active and abandoned penguin colonies in the Ross Sea region. Ice-free areas would be surveyed and sampled through excavations 1x1 m in size, of sediment and rock in penguin colonies, and bones, feathers, eggshell, and whole carcasses would be salvaged. Excavations would be placed in areas with little or no vegetation when possible and upon completion, excavations will be refilled, and disturbed vegetation replaced. Up to 20 small samples of lichens would also be collected in ice free areas near penguin colonies. The applicant also proposes to collect salvaged whole or partial seabird carcasses, up to 10 of each species per year, of native Antarctic birds found dead on beaches, at seabird colonies, at McMurdo and Palmer stations, or on any U.S. Antarctic Program (USAP) vessel. The applicant plans to enter ASPA 104—Sabrina Island, Balleny Islands; ASPA 105—Beaufort Island, McMurdo Sound; ASPA 106—Cape Hallett, Northern Victoria Land; ASPA 121—Cape Royds, Ross Island; ASPA 124—Cape Crozier, Ross Island; ASPA 159—Cape Adare, Borchgrevink Coast; ASPA 165—Edmonson Point, Wood Bay. Access to these locations would be on an opportunistic basis.

Location: Ice free areas along the Scott and Victoria Land coasts, Islands in the Ross Sea. McMurdo Station, Palmer Station, USAP vessels. ASPA 104—Sabrina Island, Balleny Islands; ASPA 105—Beaufort Island, McMurdo Sound; ASPA 106—Cape Hallett, Northern Victoria Land; ASPA 121—Cape Royds, Ross Island; ASPA 124—Cape Crozier, Ross Island; ASPA 159—Cape Adare, Borchgrevink Coast; ASPA 165—Edmonson Point, Wood Bay.

Dates of Permitted Activities: July 25, 2022-December 31, 2025.

Erika N. Davis,
Program Specialist, Office of Polar Programs.

[FR Doc. 2022-13457 Filed 6-23-22; 8:45 am]

BILLING CODE 7555-01-P